DEPARTMENT OF ENERGY

Federal Energy Regulatory Commission

[Docket Nos. EC06-41-000, et al.]

Hardee Power Partners Limited, et al.; Electric Rate and Corporate Filings

January 9, 2006.

The following filings have been made with the Commission. The filings are listed in ascending order within each docket classification.

1. Hardee Power Partners Limited

[Docket No. EC06-41-000]

Take notice that on December 15, 2005, Hardee Power Partners Limited (Hardee Power) submitted an application pursuant to section 203 of the Federal Power Act for authorization to dispose of and acquire discrete interconnection transmission facilities located at the switchyard it owns in connection with its approximately 370 MW nature gas/No. 2 oil-fired electricity generation facility located in Hardee Power and Polk Counties, Florida.

Comment Date: 5 p.m. eastern time on January 23, 2006.

2. Duquesne Keystone, LLC

[Docket No. EG06-27-000]

Take notice that on December 27, 2005, Duquesne Keystone, LLC, a Delaware limited liability company (Applicant) with its principal executive office at 411 Seventh Avenue, Pittsburgh, PA 15219, filed with the Commission an application for determination of exempt wholesale generator status pursuant to part 365 of the Commission's regulations and section 32 of the Public Utility Holding Company Act of 1935, as amended.

Applicant states it will be acquiring 2.47 percent undivided interests in the Keystone Electric Generating Station in Shelocta, Pennsylvania (Facilities) and sell electric energy at wholesale. Applicant further states its interest in the Facilities is 42.3 MW.

Comment Date: 5 p.m. eastern time on January 30, 2006.

3. Duquesne Conemaugh, LLC

[Docket No. EG06-28-000]

Take notice that on December 27, 2005, Duquesne Conemaugh, LLC, a Delaware limited liability company (Applicant) with its principal executive office at 411 Seventh Avenue, Pittsburgh, PA 15219, filed with the Commission an application for determination of exempt wholesale generator status pursuant to part 365 of the Commission's regulations and Section 32 of the Public Utility Holding Company Act of 1935, as amended.

Applicant will be acquiring 3.83 percent undivided interests in the Conemaugh Electric Generating Station in New Florence, Pennsylvania (“Facilities”) and sell electric energy at wholesale. The total capacity of the Applicant's interest in the Facilities is approximately 65.5 MW.

Comment Date: 5 p.m. eastern time on January 30, 2006.

4. Decatur Energy Center, LLC

[Docket No. EG06-29-000]

Take notice that on December 30, 2005, Decatur Energy Center, LLC (Applicant), Calpine Center, 717 Texas Avenue, Suite 1000, Houston, TX 77002, filed with the Commission an application for determination of exempt wholesale generator status pursuant to part 365 of the Commission's regulations.

Applicant states that it owns and operates a nominal 780 MW power generation facility located in Decatur, Morgan County, Alabama. Applicant further states that copies of the application were served upon the United States Securities and Exchange Commission and Alabama Public Service Commission.

Comment Date: 5 p.m. eastern time on January 30, 2006.

5. Deseret Generation & Transmission Co-operative, Inc.

[Docket No. ER99-2506-003]

Take notice that on December 1, 2005, Deseret Generation & Transmission Co-operative, Inc. submitted for filing a supplement to its second updated triennial market power analysis originally submitted on June 30, 2005.

Comment Date: 5 p.m. eastern time on January 19, 2006.

6. JMC Wind, LLC

[Docket No. QF06-3-000]

Take notice that on December 6, 2005, JMC Wind, LLC (JMC Wind) submitted for filing an application as a Qualifying Small Power Production Facility. JMC Wind states that this facility will only transmit power generated by JMC Wind or another Bingham Lake Facility or to transmit maintenance or back-up power from Interstate to a Bingham Lake Facility.

Comment Date: 5 p.m. eastern time on January 19, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-481 Filed 1-18-06; 8:45 am]

BILLING CODE 6717-01-P